SMALL BUSINESS ADMINISTRATION

[License No. 01/01-0410]

Surrender of License of Small Business Investment Company; Gemini Investors IV, L.P.

Pursuant to the authority granted to the United States Small Business Administration under the Small Business Investment Act of 1958, as amended, under Section 309 of the Act and Section 107.1900 of the Small Business Administration Rules and Regulations (13 CFR 107.1900) to function as a small business investment company under the Small Business Investment Company License No. 01/01-0410 issued to Gemini Investors IV, L.P., said license is hereby declared null and void.

United States Small Business Administration.
Thomas G. Morris,
Acting Associate Administrator, Director, Office of SBIC Operations, Office of Investment and Innovation.

[FR Doc. 2021-13860 Filed 6-28-21; 8:45 am]

BILLING CODE P